NUCLEAR REGULATORY COMMISSION

10 CFR Chapter I

[NRC-2017-0214]

Retrospective Review of Administrative Requirements

AGENCY: Nuclear Regulatory Commission.

ACTION: Availability of comment evaluation summary; public meeting and status of rulemaking activities.

SUMMARY: The U.S. Nuclear Regulatory Commission (NRC), on February 4, 2020, requested input from its licensees and members of the public on any administrative requirements that may be modified or eliminated without an adverse effect on public health or safety, common defense and security, protection of the environment, or regulatory efficiency and effectiveness. The public comment period ended on May 6, 2020, and the NRC evaluated the comments. This document announces the availability of the comment evaluation summary and provides the status of the NRC's Retrospective Review of Administrative Requirements initiative. The NRC plans to hold a public meeting to discuss the comment evaluation process and answer stakeholder questions.

DATES: The comment evaluation summary is available on June 23, 2021. A public meeting will be held on June 30, 2021.

ADDRESSES: Please refer to Docket ID NRC-2017-0214 when contacting the NRC about the availability of information for this action. You may obtain publicly available information related to this action by any of the following methods:

• Federal Rulemaking website: Go to https://www.regulations.gov and search for Docket ID NRC-2017-0214. Address questions about NRC dockets to Dawn Forder; telephone: 301-415-3407; email: Dawn.Forder@nrc.gov. For technical questions contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8 a.m. and 4 p.m. (EST), Monday through Friday, except Federal holidays.

FOR FURTHER INFORMATION CONTACT: Andrew G. Carrera, telephone: 301-415-1078, email: Andrew.Carrera@nrc.gov; or Solomon Sahle, telephone: 301-415-3781, email: Solomon.Sahle@nrc.gov. Both are staff of the Office of Nuclear Material Safety and Safeguards, U.S. Nuclear Regulatory Commission, Washington, DC 20555-0001.

SUPPLEMENTARY INFORMATION:

I. Background

On February 4, 2020, the NRC published a document in the Federal Register (85 FR 6103) requesting input from its licensees and members of the public on any administrative requirements that may be modified or eliminated without an adverse effect on public health or safety, common defense and security, protection of the environment, or regulatory efficiency and effectiveness. The public comment period was originally scheduled to close on April 6, 2020. On April 2, 2020, the NRC published a document in the Federal Register (85 FR 18477) extending the deadline to May 6, 2020. During the comment period, on March 5, 2020 (ADAMS Accession No. ML20069A022), and March 24, 2020 (ADAMS Accession No. ML20085H593), the NRC held public meetings to discuss the NRC's request for public input. In addition, the NRC requested input from agency staff through various methods of internal outreach. The NRC received comment submissions from the Nuclear Energy Institute, agency staff, and a member of the public, for a total of 100 individual comments. The evaluation summary of these comments is available in ADAMS under Accession No. ML21012A439.

II. Discussion

For this Retrospective Review of Administrative Requirements (RROAR) initiative, the NRC developed criteria with which to evaluate potential regulatory changes. In addition to the following five criteria, the NRC considered programmatic experience, intent of the requirement, impact to the NRC's mission, and overall impact to resources when determining whether to pursue a change to the regulations.

1. Submittals resulting from routine and periodic recordkeeping and reporting requirements, such as directives to submit recurring reports that the NRC has not consulted or referenced in programmatic operations or policy development in the last 3 years.

2. Requirements for reports or records that contain information reasonably accessible to the agency from alternative resources that, as a result, may be candidates for elimination.

3. Requirements for reports or records that could be modified to result in reduced burden without impacting programmatic needs, regulatory efficiency, or transparency, through: (a) Less frequent reporting, (b) shortened record retention periods, (c) requiring entities to maintain a record rather than submit a report, or (d) implementing another mechanism that reduces burden for collecting or retaining information.

4. Recordkeeping and reporting requirements that result in significant burden.

5. Reports or records that contain information used by other Federal agencies, State and local governments, or Federally recognized Tribes will be dropped from the review provided the information collected is necessary to support the NRC's mission or to fulfill a binding NRC obligation.

To be screened in for rulemaking consideration, comments had to meet at least one of Criteria 1 through 4 and not meet Criterion 5.

Once screened in for rulemaking consideration, the staff organized the comments into three categories of action: (1) To be further evaluated in a new RROAR-related rulemaking (44 comments), (2) to be incorporated in an annual administrative corrections rulemaking (5 comments), or (3) to be considered in an ongoing rulemaking activity outside the RROAR initiative (5 comments). For comments that need further evaluation within the context of a new RROAR rulemaking effort, the NRC will consider the comments, in combination with its preliminary evaluation of the comments, in the rulemaking process. However, this is not a final determination and could change as NRC proceeds through rulemaking activities.

The NRC's evaluation identified 46 comments that did not meet the criteria. The staff plans no further action on 44 of these comments, and identified two comments to be reviewed for potential non-rulemaking solutions under the agency's innovation and transformation efforts.

III. Public Meeting

The NRC will conduct a public meeting to discuss the comment evaluation process and answer stakeholder questions.

The meeting will be held on June 30, 2021, from 10:00 a.m. to 12:00 p.m. Eastern Standard Time. Interested members of the public can participate in this meeting via WebEx at: https://usnrc.webex.com/usnrc/onstage/g.php?MTID=e01dcfc6971f79f394a24d902b4e0e9b3, or by phone conference at (888) 390-2141, passcode 8801623.

This is an Information Public Meeting with a question and answer session. The purpose of this meeting is for the NRC staff to meet directly with individuals to discuss regulatory and technical issues. Attendees will have an opportunity to ask questions of the NRC staff or make comments about the issues discussed throughout the meeting; however, the NRC is not actively soliciting comments towards regulatory decisions at this meeting. For additional information or to request reasonable accommodations, please contact Andrew Carrera, phone: 301-415-1078, email: Andrew.Carrera@nrc.gov, or Solomon Sahle, phone: 301-415-3781, email: Solomon.Sahle@nrc.gov. Stakeholders should monitor the NRC's public meeting website for information about the public meeting; https://www.nrc.gov/public-involve/public-meetings/index.cfm.

Dated: June 14, 2021.
For the Nuclear Regulatory Commission.
Kevin A. Coyne,
Deputy Director, Division of Rulemaking, Environmental Review and Financial Support, Office of Nuclear Material Safety and Safeguards.

[FR Doc. 2021-13466 Filed 6-22-21; 8:45 am]

BILLING CODE 7590-01-P